FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 011666-008.

Agreement Name: West Coast North America/Pacific Islands Vessel Sharing Agreement.

Parties: Maersk A/S and Swire Shipping Pte. Ltd.

Filing Party: Conte Cicala; Clyde & Co. US LLP.

Synopsis: The amendment changes the name of Swire Shipping.

Proposed Effective Date: 1/14/2022.

Location: https://www2.fmc.gov/FMC.Agreements.Web/Public/AgreementHistory/795.

Agreement No.: 201345-001.

Agreement Name: SSL/Matson Pacific Islands Vessel Sharing Agreement.

Parties: Swire Shipping Pte. Ltd. and Matson South Pacific Limited.

Filing Party: Conte Cicala; Clyde & Co. US LLP.

Synopsis: The amendment updates the name of Swire Shipping Pte. Ltd and updates the name of the Agreement.

Proposed Effective Date: 1/14/2022.

Location: https://www2.fmc.gov/FMC.Agreements.Web/Public/AgreementHistory/32506.

Agreement No.: 201320-001.

Agreement Name: SSL/Matson West Coast North America/Pacific Islands Slot Charter Agreement.

Parties: Swire Shipping Pte. Ltd. and Matson Navigation Company, Inc.

Filing Party: Conte Cicala; Clyde & Co. US LLP.

Synopsis: The amendment changes the name of Swire Shipping.

Proposed Effective Date: 1/14/2022.

Location: https://www2.fmc.gov/FMC.Agreements.Web/Public/AgreementHistory/23436.

Agreement No.: 201272-002.

Agreement Name: Kyowa/SSL Pacific—Asia Slot Charter Agreement.

Parties: Kyowa Shipping Co., Ltd. and Swire Shipping Pte. Ltd.

Filing Party: Conte Cicala; Clyde & Co. US LLP.

Synopsis: The amendment changes the name of Swire Shipping.

Proposed Effective Date: 1/14/2022.

Location: https://www2.fmc.gov/FMC.Agreements.Web/Public/AgreementHistory/16283.

Dated: January 21, 2022.
William Cody,
Secretary.

[FR Doc. 2022-01533 Filed 1-25-22; 8:45 am]

BILLING CODE 6730-02-P